NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 27, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

Fax: (301) 837-3698

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: (301) 837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Forest Service (N1-95-10-3, 54 items, 51 temporary items). Routine administrative records related to various programs throughout the agency, including general correspondence, reports, studies, plans and interagency agreements. Proposed for permanent retention are agency plans pertaining to sustainable operations, ecological restoration, environmental policies, and directives regarding the invasive species program.

2. Department of Agriculture, Grain Inspection, Packers, and Stockyards Administration (N1-545-08-2, 13 items, 11 temporary items). Records relating to a quality assurance and control program, including cooperative agreements, complaints, evaluation materials, and plans. Proposed for permanent retention are policies, guidelines, and substantive reports such as annual summaries and comprehensive nonrecurring reports.

3. Department of the Army, Agency-wide (N1-AU-10-77, 1 item, 1 temporary item). Master files of an electronic information system used to report Army Reserve personnel strength accounting data.

4. Department of the Army, Agency-wide (N1-AU-10-93, 1 item, 1 temporary item). Master files of an electronic information system used to track information on persons sustaining losses in real estate because of closure or reduction of military bases.

5. Department of the Army, Agency-wide (N1-AU-10-95, 1 item, 1 temporary item). Master files of an electronic information system that contains data used to standardize procedures for conducting physical security inspections and assessments.

6. Department of Defense, Defense Contract Management Agency (N1-558-10-7, 4 items, 4 temporary items). Records relating to agency property, housing, facility, and vehicle management, as well as travel and transportation.

7. Department of Defense, Defense Logistics Agency (N1-361-10-3, 15 items, 15 temporary items). Correspondence files, applications for participation, and other records relating to a program for the transfer of surplus military property to state law enforcement agencies.

8. Department of Defense, Office of the Secretary of Defense (N1-330-11-1, 2 items, 2 temporary items). Master files of electronic information systems that contain the health records of all categories of patients receiving treatment at military treatment facilities including physical notes, histories, and assessments; discharge summaries; progress notes; physician orders; nursing notes; and medications.

9. Department of Justice, Civil Rights Division (DAA-0060-2011-0026, 1 item, 1 temporary item). Outputs created from an interface portal to an electronic voting procedures and processing system.

10. Department of Justice, Federal Bureau of Investigation (N1-65-11-35, 1 item, 1 temporary item). Master files of an electronic information system used for data analysis and reporting by the National Cyber Investigative Joint Task Force.

11. Department of Labor, Wage and Hour Division (N1-155-11-2, 5 items, 3 temporary items). Records relating to administrative and management support functions. Proposed for permanent retention are substantive plans and reports, organizational charts, studies, and agency histories.

12. Department of the Navy, United States Marine Corps (N1-127-09-1, 1 item, 1 temporary item). Master files of an electronic information system used to maintain career and pay information for active, reserve, and retired personnel.

13. Department of State, Bureau of International Information Programs (N1-59-09-20, 2 items, 2 temporary items). Records of the Office of Current Issues, including copies of subject and project files and content from an electronic system used to distribute copies of press releases, speeches, and policy statements to foreign audiences.

14. Office of Management and Budget, Office of E-Government and Information Technology (DAA-0051-2012-0001, 4 items, 4 temporary items). Web site records for the Federal Chief Information Office Council, including web content of a routine nature and associated web management and administrative records.

15. Peace Corps, Office of the Chief Financial Officer (N1-490-11-1, 3 items, 2 temporary items). Records of the Office of Volunteer and Personal Service Contractors Financial Services, including hard copy and microfiche copies of Volunteer Description of Service statements. Proposed for permanent retention are scanned copies of the Volunteer Description of Service statements.

16. Small Business Administration, Office of the National Ombudsman (N1-309-11-1, 9 items, 6 temporary items). Records include comments received by the office that do not fall within its jurisdiction; sound recordings and background files from the National Ombudsman's hearings and roundtables; records related to the selection and actions of Annual Regulatory Fairness Board members and their annual meetings; and records of Federal inter-agency Small Business Regulatory Enforcement Fairness Act meetings. Proposed for permanent retention are comments received by the office that fall within its jurisdiction; transcripts of hearings of the National Ombudsman; and annual reports to Congress.

17. U.S. Commission on International Religious Freedom, Agency-wide (N1-220-12-1, 4 items, 2 temporary items). Records include web site maintenance records and routine program records. Proposed for permanent retention are substantive records such as annual reports and recommendations, testimony, and research reports, and www.uscirf.gov substantive collections.

Dated: January 20, 2012.
Paul M. Wester, Jr.,
Chief Records Officer for the U.S. Government.

[FR Doc. 2012-1779 Filed 1-26-12; 8:45 am]

BILLING CODE 7515-01-P